DEPARTMENT OF AGRICULTURE

Forest Service

Shasta-Trinity National Forest, California; Turntable Bay Marina Master Development Plan

AGENCY: Forest Service, USDA.

ACTION: Notice of intent to prepare an environmental impact statement.

SUMMARY: The Shasta-Trinity National Forest proposes to authorize a 30-year term permit to Seven Resorts, Inc. to build and operate a resort marina at Turntable Bay located in section 22 & 27, T34N, R4W, MDBM on Shasta Lake. In conjunction with this authorization, Seven Resorts, Inc. (Project Proponent) will relinquish the existing permit for the operation of Digger Bay Marina located in section 12 and 13, T33N, R5W, MDBM on Shasta Lake. The proposed Turntable Bay Marina and associated land-based development will be designed for water-based recreational use on a year-around basis. Proposed water-based facilities include a retail store, public moorage facilities, boat rentals, and service docks (fuel, septic waste, and refuse collection). Proposed land-based improvements include off-ramp lighting, paved access road, paved parking, launch ramp, public restrooms, water supply, sanitary waste disposal system, and power and communications utilities.

In addition, a non-significant amendment to the Shasta-Trinity National Forest Land and Resource Management Plan to amend management prescription IV, “Roaded, High Density Recreation,” to include the proposed site of the Turntable Bay Marina is proposed. The proposal is within the Shasta Unit of the Whiskeytown-Shasta-Trinity National Recreation Area.

DATES: Comments concerning the scope of the analysis should be received no later than 30 days after publication of this notice in the Federal Register. The draft environmental impact statement is expected in November 2005 and the final environmental impact statement is expected during the spring of 2006.

ADDRESSES: Send written comments to District Ranger Kristy Cottini, Shasta-Trinity National Forest, National Recreation Area Ranger Station, 14225 Holiday Road, Redding, CA 96003.

FOR FURTHER INFORMATION CONTACT: Project Manager Lee Simons, Shasta-Trinity National Forest, National Recreation Area Ranger Station, 14225 Holiday Road, Redding, CA 96003.

SUPPLEMENTARY INFORMATION: Turntable Bay was identified by the Shasta-Trinity National Forest, as the most viable site for a new marina on Shasta Lake. Turntable Bay offers direct access from Interstate 5, limited impact from lake level fluctuations, and an area well suited for a variety of recreational activities both on and off the water. Shasta Lake is the largest lake in the Whiskeytown-Shasta-Trinity National Recreation Area (NRA), and is managed by the Shasta-Trinity National Forest to provide quality recreational experiences to the public.

In May 2002, the Shasta-Trinity National Forest issued a prospectus offering the opportunity to relocate an existing marina's operation on Shasta Lake to Turntable Bay. The Project Proponent submitted a proposal in response to the prospectus and was awarded the opportunity to prepare a conceptual Turntable Bay Marina Master Development Plan. This plan has been accepted by the Shasta-Trinity National Forest for environmental analysis under the National Environmental Policy Act (NEPA).

Purpose and Need for Action

There is a need for the Forest Service, Shasta-Trinity National Forest, to take action (provide response) on the application submitted by the Project Proponent requesting a special use authorization. The proposed use is construction and operation of a full service marina at Turntable Bay on Shasta Lake within the NRA. The purpose of the proposed project is to provide a high-quality recreational opportunity at Turntable Bay. The current Management Guide (NRA Guide) for the Shasta and Trinity Units of the NRA identifies Turntable Bay as the most feasible new location for a resort/marina operation.

The Shasta-Trinity National Forest manages the Shasta Unit of the NRA to be a showcase recreational area that supports the enjoyment and use of the natural environment. The combination of water and land surface provides the opportunity to enjoy many types of outdoor recreation; however, environmental factors such as a hot climate, steep terrain, and sparse forest cover favor water-oriented recreation. On the Shasta Unit, the key attraction or recreation resource is the available water surface of Shasta Lake. Recreational boating on Shasta Lake is dependent upon access to the water via shoreline facilities such as marinas, docks, and launch ramps.

Fluctuations in the water levels, however, have effects on the provision of and access to water-based recreational services. With regard to the marinas on Shasta Lake, some facilities are located in areas (shallow water ports) that require them to move their docks substantial distances from their land-based facilities and/or close their boat ramps during low water periods. This decreases the consistency, efficiency, and overall quality of services provided. Deepwater ports are more efficient locations for marinas.

To allow existing marinas, which are restricted by their locations, to improve the quality of the services they provide, the NRA Guide contains the following recommendation.

“Upon approval by the Forest Service, resort/marinas may merge, or consolidate to one location, or a resort/marina may move to a new location based on the following criteria:

• Maintains or improves dispersion of services around the lake.

• Accommodates low water conditions.

• Removes or eliminates the threat for threatened and/or endangered species.

• The site can adequately support both land and water based facilities and services.

• Road access is feasible and reasonable (location and cost).

• Utilities (electricity and telephone) are reasonably available to the location.

• Compatibility with existing commercial resort/marina locations.

• Compatibility with natural resources, such as preservation of watershed or fish habitat values.

• Compatibility with public recreation sites or facilities.”

Based on these criteria, Turntable Bay was determined to be the most viable location for a new marina on Shasta Lake. Turntable Bay possesses many site characteristics which would contribute to efficient and consistent marina operation, including direct access from a major interstate, deep water moorage with limited effects from lake fluctuations, access to utilities, and an area well suited for a variety of recreational activities, both on and off the water. Therefore, the proposed project offers an opportunity to improve the location and quality of facilities/services currently provided by Digger Bay Marina (an existing marina operated by the Project Proponent) through relocation to Turntable Bay.

In comparison, the facility at Digger Bay is located approximately 6 miles form Interstate 5. Access is via Shasta Dam Boulevard, through the City of Shasta Lake, and then north on Digger Bay Road. Digger Bay Road is a low-standard, narrow, and winding road about 3.5-mile long, making it poorly suited for trailer carrying boats.

The boat launch ramp at Digger Bay Marina ends at a depth of 60 feet below full lake level. When the lake surface drops below this level, boasts can no longer be launched at the site. From 60 to 100 feet below full lake level, access to marina facilities on the water is constrained by a winding asphalt road. This road is difficult to negotiate with vehicles and requires frequent repositioning of the docks as water levels change. Below 100 feet from full lake level, marina facilities cannot be accessed form the land at all.

Proposed Action

The proposed action to issue a 30 year term permit for the development and operation of Turntable Bay Resort Marina would include the following actions:

• All land-based developments are proposed to occur above 1090 feet elevation, to avoid conflicts with a potential increase of 20 feet in the height of Shasta Dam.

• Land-based developments will include placement of safety lighting at the north-bound and south-bound ramps of Interstate Highway 5 (Turntable Bay exit).

• Reconstruction and construction of a two-land paved access road.

• Construction of paved parking areas.

• Construction of a four land (60 feet wide) boat-launching ramp.

• Construction of public restrooms, water supply, and septic disposal systems.

• Construction of disposal area for excess excavation materials.

• Revegetation and slope protection measures emphasizing native vegetation.

• Construction of power and communication utilities.

• Water-based facilities will include a retail store, boat rentals, public moorage docks, and systems for selling fuel, septic pump out, and refuse management.

The proposed permit area includes 79 acres above the current high water level of Shasta Lake (1070 feet above mean sea level). This area is currently undeveloped, with the exception of an access road that terminates at the back (west end) of Turntable Bay, immediately east of northbound Interstate 5. The proposed marina and land-based development will be designed to provide recreational opportunities consisting of varied boating and other water-based activities as well as pubic access to park-like areas on land including a day-use picnic area, walking trails, and public restrooms. The development design provides compliance with the Americans with Disabilities Act (ADA) and appropriate public law. The proposed marina site includes waters of Shasta Lake within Turntable Bay, the area between Interstate Highway 5 and Shasta Lake north of the Turntable Bay exit, a portion of the existing access road, and an area to the north of Turntable Bay that will be used to place excess excavation material.

The shoreline of Shasta Lake in the project area is rugged. The development of roads and parking areas will require grading (estimated 94,000 cubic yards of net excess material). The proposed design has been developed to minimize the total disturbed area and retain as much of the area in an undisturbed condition as possible. The design of appropriate cuts and fills to minimize grading is planned.

As designed, the proposed project will minimize impacts to native vegetation and will implement a vegetation management plan that emphasizes native vegetation in the project design. This plan will also use revegetation strategies to address other potential resource impacts (e.g., visuals, erosion, water quality, and noxious weeds).

Upon authorization and construction of Turntable Bay Marina, SCR will relinquish its permit to operate Digger Bay Marina. This will result in abandoning the current land-side operations and relocating the water-side improvements to Turntable Bay. When the Resort/Marina Term Special Use Permit for the Digger Bay location is relinquished, some land-side improvements at the existing Digger Bay site, including paved access roads, parking areas, launch ramp, and utilities (water and septic) will remain intact for possible future use to be determined though subsequent planning by the Forest Service.

Possible Alternatives

Any action alternatives would be developed based on significant issues to the proposed action following the public scoping process.

Lead and Cooperating Agencies

USDA Forest Service is the lead agency for this environmental impact statement. Other Federal, state, or local agencies may have discretionary approvals and authorities.

Responsible Official

J. Sharon Heywood, Forest Supervisor, Shasta-Trinity Forest, 3644 Avtech Parkway, Redding, CA 96002.

Nature of Decision To Be Made

The Forest Supervisor will decide whether to implement the proposed action, take an alternative action that meets the purpose and need, to take no action.

Scoping Process

The project is included in the Shasta-Trinity National Forest's quarterly schedule of proposed actions (SOPA). Information describing the proposed action will also be posted on the Web site, http://www.fs.fed.us/r5/shastatrinity/projects, and advertised in the Redding Record Searchlight. This notice of intent initiates the scoping process, which guides the development of the environmental impact statement. Comments submitted during this scoping process should be in writing and should be specific to the proposed action. The comments should describe as clearly and completely as possible any issues the commenter has with the proposal. The scoping process includes:

(a) Identifying potential issues.

(b) Identifying issues to be analyzed in depth.

(c) Eliminating non-significant issues or those previously covered by a relevant previous environmental analysis.

(d) Exploring additional alternatives.

(e) Identifying potential environmental effects of the proposed action and alternatives.

Preliminary Issues

No preliminary issues have been identified.

Permits or Licenses Required

By definition, the Forest Service has identified the proposed Turntable Bay Marina as a water-dependent project that will be subject to the requirements of the Clean Water Act. Under the Act, the U.S. Army Corp of Engineers has the responsibility to ensure that the waters of the U.S. are protected. The location and types of activities associated with proposed action will require issuance of a 404 Permit prior to Forest Service authorization of the Special Use Permit to construct and operate the proposed Turntable Bay Marina.

The California Regional Water Quality Control Board, Central Valley Region, is the agency authorized to issue the 401 certification under the Clean Water Act. Due to the nature of some of the proposed land-based development (i.e., water and sanitation facilities), this agency is also responsible for preparing waste discharge requirements prior to Forest Service authorization of the Special use Permit to construct and operate the proposed Turntable Bay Marina.

The California Department of Transportation maintains a right-of-way associated with Interstate 5. Some land-based components of the proposed Turntable Bay Marina may encroach on this right-of-way and require the issuance of a California Department of Transportation encroachment permit prior to Forest Service authorization of the Special Use Permit to construct and operate the proposed Turntable Bay Marina.

Comments Requested

This notice of intent initiates the scoping process which guides development of the environmental impact statement.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. Court of Angoon v. Hodel, 803 F.2d 1016, 1022 (9th Cir. 1986) and Wisconsin Heritages, Inc. v. Harris, 490 F. Supp, 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 211.)

Dated: June 16, 2005.
J. Sharon Heywood,
Forest Supervisor.

[FR Doc. 05-13242 Filed 7-5-05; 8:45 am]

BILLING CODE 3410-11-M